GENERAL SERVICES ADMINISTRATION

[Notice-P-2024-15; Docket No. 2024-0002; Sequence No. 49]

Notice of Availability for the Record of Decision on the Final Environmental Impact Statement for the Alcan Land Port of Entry Expansion and Modernization in Alcan, Alaska

AGENCY: Public Buildings Service (PBS), U.S. General Services Administration (GSA).

ACTION: Notice of availability (NOA).

SUMMARY: GSA issued a Record of Decision (ROD) on the Final Environmental Impact Statement (EIS) for the Alcan Land Port of Entry Expansion and Modernization in Alcan, Alaska on October 18, 2024. The ROD was prepared in accordance with the National Environmental Policy Act (NEPA) of 1969, the Council on Environmental Quality Regulations, and the GSA PBS NEPA Desk Guide.

DATES: Applicable: Friday, October 18, 2024.

ADDRESSES: The ROD may be found online at the following website: www.gsa.gov/alcan.

FOR FURTHER INFORMATION CONTACT: Aaron Evanson, Capital Project Manager, AlcanLPOE@gsa.gov or 206-445-5876.

SUPPLEMENTARY INFORMATION:

Background

The Alcan LPOE is located at Milepost 1221.8 on the Alaska Highway, 0.43 miles from the U.S./Canada Border. The existing Alcan LPOE is owned and managed by GSA and is operated by the U.S. Department of Homeland Security's Customs and Border Protection (CBP). The Alcan LPOE is the only 24-hour port serving privately-owned vehicles (POVs) and commercial traffic between the Yukon Territory, Canada, and mainland Alaska. GSA is the lead agency for the Final EIS and the Native Village of Northway is a cooperating agency.

GSA proposes to build an expanded and modernized LPOE and new housing units at Alcan, Alaska, to replace the existing facilities. The Final EIS describes the purpose and need for the proposed project, the alternatives considered, the existing environment that could be affected, the potential impacts resulting from each of the alternatives, and proposed best management practices and mitigation measures.

On April 7, 2023, GSA published a Notice of Intent for the EIS and underwent a 40-day scoping period. A Draft EIS was issued over a 45-day public comment period on February 26, 2024. Comments received, along with GSA's responses, during the Final EIS 30-day waiting period, which ended on October 7, 2024, are provided in Appendix A of the ROD.

Preferred Alternative

As noted in the ROD, GSA has chosen to implement Alternative 1: Expansion and Modernization in Place as defined in the Final EIS. This decision is based on the Final EIS issued in September 2024; associated technical reports; comments from federal and state agencies, stakeholders, members of the public, and elected officials; and other resources contained in the administrative record.

Alternative 1 consists of expanding and modernizing the Alcan LPOE and will include: site preparation and grading; construction of a new Main LPOE Building, enclosed inspection vehicle spaces, new housing units with improved security measures, an indoor firing range, and a helicopter landing zone; and demolition of the existing LPOE structures. GSA will need authorization for use of up to 6.5 acres extending into the Tetlin NWR for the proposed helicopter landing zone.

All facility and infrastructure improvements proposed under Alternative 1 will incorporate a sustainable, climate-resilient, cyber-secure, and operationally efficient design. GSA will seek to meet or exceed energy and sustainability goals established by federal guidelines and policies, along with industry standard building codes and best practices.

There will be approximately 15 acres of temporary ground disturbance and 5 acres of permanent ground disturbance under Alternative 1. Approximately 5 acres will be used as a staging area during construction. There are currently 8 acres of impermeable surfaces at the LPOE; expansion and modernization will add approximately 4 acres of impervious surfaces. Given the seasonal constraints of construction work in Alaska, Alternative 1 will likely follow a six-year implementation timeline, which will be phased to avoid disruption to LPOE operations.

GSA intends to implement and comply with all mitigation measures as detailed in the ROD.

Anamarie Crawley,
Director, R10 Facilities Management Division, Northwest/Arctic Region 10, U.S. General Services Administration.

[FR Doc. 2024-23879 Filed 10-17-24; 8:45 am]

BILLING CODE 6820-DL-P